DEPARTMENT OF COMMERCE

National Oceanic and Atmospheric Administration

Proposed Information Collection; Comment Request; Transshipment Requirements Under the Western and Central Pacific Fisheries Commission (WCPFC)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 15, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Rini Ghosh, Pacific Islands Regional Office, (808) 725-5033 or rini.ghosh@noaa.gov.

SUPPLEMENTARY INFORMATION:

I. Abstract

This request is for an extension of a currently approved information collection. National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Convention). The regulations include requirements for the owners and operators of U.S. vessels to: (1) Complete and submit a Pacific Transshipment Declaration form for each transshipment of highly migratory species in the area of application of the Convention (Convention Area) and each transshipment of highly migratory species caught in the Convention Area; (2) submit a notice containing specific information at least 36 hours prior to each transshipment on the high seas in the Convention Area or within 12 hours of an emergency transshipment that would otherwise be prohibited; (3) provide notice to NMFS at least 72 hours before leaving port of the need for an observer, in the event that a vessel anticipates a transshipment where an observer is required; (4) complete and submit a U.S. Purse Seine Discard form within 48 hours after any discard; and (5) submit certain information regarding purse seine fishing activities. The information collected from these requirements is used by NOAA and the WCPFC to help ensure compliance with domestic laws and the Commission's conservation and management measures, and are necessary in order for the United States to satisfy its obligations under the Convention.

II. Method of Collection

Respondents must submit some of the information by mail or in person via paper forms, and must submit other information electronically by fax or email.

III. Data

OMB Control Number: 0648-0649.

Form Number(s): None.

Type of Review: Regular submission (extension of a currently approved information collection).

Affected Public: Business or other for-profit organizations.

Estimated Number of Respondents: 214.

Estimated Time per Response: Transshipment Report: 60 minutes; Notice for Transshipment: 15 minutes; Pre-trip Notification for Observer Placement: 1 minute; Purse Seine Discard Report: 30 minutes; Purse Seine Fishing Activity Information: 10 minutes.

Estimated Total Annual Burden Hours: 2,499.

Estimated Total Annual Cost to Public: $12,369.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 9, 2018.
Sarah Brabson,
NOAA PRA Clearance Officer.

[FR Doc. 2018-17399 Filed 8-13-18; 8:45 am]

BILLING CODE 3510-22-P